DEPARTMENT OF TRANSPORTATION

Office of the Secretary

14 CFR Parts 121, 207, 208, 221, 250, 253, 256, 302, 380, 389, and 399

49 CFR Parts 27, 37, 40, 219, 376, 382, 653, and 654

[Docket No. OST-02-13179]

RIN 2105-AD16

Withdrawal of Proposed Rulemaking Actions; Nondiscrimination on the Basis of Age, Charter Transportation, Notice of Terms of Contract of Carriage Part 399—Statement of General Policy, Simplified Airline Counter Sign Notices, Rules of Practice in Board Proceedings—Fees and Charges for Special Services; and Statements of General Policy, Baggage Liability Notices in International Air Transportation, Price Advertising, Procedures for Transportation Workplace Drug Testing Programs, and Transportation for Individuals with Disabilities

AGENCY: Department of Transportation, Office of the Secretary.

ACTION: Withdrawal of notices of proposed rulemakings.

SUMMARY: This document withdraws the following rulemakings, proposed by the Office of the Secretary or the former Civil Aeronautics Board (CAB), that have been superseded by more recent rulemakings or other actions that make the proposed actions no longer necessary or appropriate: Nondiscrimination on the Basis of Age, Charter Transportation, Notice of Terms of Contract of Carriage Part 399—Statement of General Policy, Simplified Airline Counter Sign Notices, Rules of Practice in Board Proceedings—Fees and Charges for Special Services; and Statements of General Policy, Baggage Liability Notices in International Air Transportation, Price Advertising, Procedures for Transportation Workplace Drug Testing Programs, and Transportation for Individuals with Disabilities. This action is being taken on the Department's initiative in order to complete action or provide information on those that have been completed by other actions.

ADDRESSES: You may obtain a copy of this notice from the DOT public docket through the Internet at http://dms.dot.gov, docket number OST-02-13179. If you do not have access to the Internet, you may obtain a copy of the notice by United States mail from the Docket Management System, U.S. Department of Transportation, Room PL401, 400 Seventh Street, SW., Washington, DC 20590. You must identify docket number OST-02-13179 and request a copy of the notice entitled “Withdrawal of Proposed Rulemaking Actions.” You may also review the public docket in person in the Docket office between 9 a.m. and 5 p.m., Monday through Friday, except Federal holidays. The Docket office is on the plaza level of the Department of Transportation. Additionally, you can also get a copy of this document from the Federal Register Webster at www.gpo.gov.

FOR FURTHER INFORMATION CONTACT: Jennifer Abdul-Wali, Office of the General Counsel, 400 Seventh Street, SW., Washington, DC 20590; (202) 366-4723; fax: (202) 366-9313; e-mail: Jennifer.Abdul-Wali@ost.dot.gov.

SUPPLEMENTARY INFORMATION:

Background

The Department has identified a number of notices of proposed rulemakings (NPRMs) that have remained open and on its Regulatory Agenda, often for considerable periods of time. By this notice, the Department is withdrawing each of them for the reasons stated below.

Withdrawal of Proposed Rules

The following is a list of proposed rules being withdrawn by this document:

1. Nondiscrimination on the Basis of Age, NPRM published by the CAB on September 26, 1979, under Docket No. 36639, RIN 2105-AA45, [44 FR 55383]. This NPRM proposed new rules to prohibit discrimination against air travelers on the basis of age and to implement the Age Discrimination Act of 1975.

Comments: The Department received comments from certain members of the Air Transport Association of America.

Reason for withdrawal: In view of current airline practices with respect to travel by the elderly, which are based on criteria set forth in the Age Discrimination Act of 1975, and the absence of complaints of discrimination based on age, there is no longer a need for this rulemaking.

2. Charter Transportation, NPRM published by the CAB on July 11, 1980, under Docket No. 37169, RIN 2105-AA40, [45 FR 46812]. This rule proposed to eliminate the clause in most charter contracts by which airlines exempt themselves from the obligation to return stranded charter passengers.

Comments: The Department received comments from certain airlines and the United States Tour Operators Association.

Reason for withdrawal: This proposal was superseded by an interpretive rule issued by the Civil Aeronautics Board (CAB) [ER-1387, 49 FR 33436], which was affirmed in court [Arrow Air, Inc., v. Dole, 784 F2d 1118 (1986)]. The interpretation clarified that direct air carriers must provide return transportation to any charter passenger that the airline had carried on an outbound flight. Therefore, there is no longer a need for this rulemaking.

3. Notice of Terms of Contract of Carriage Part 399—Statement of General Policy, NPRM published on September 23, 1983, under Docket No. 41683, RIN 2105-AA78, [48 FR 43343]. This rule proposed to require that passengers be given actual notice of contract terms by which carriers disclaim or substantially limit responsibility to provide for substitute transportation to the destination airports named on their tickets, when a flight is diverted to another airport.

Comments: The Department received comments from certain members of the Air Transport Association of America, the travel industry, and several airlines.

Reason for withdrawal: This action is withdrawn because the airline industry, through individual customer service plans, has adopted policies and procedures to provide notice to their customers when it is necessary to divert flights from an original destination.

4. Tariffs; Oversales; Counter Signs, NPRM published on August 1, 1984, under Docket No. 41971, RIN 2105-AA88, [49 FR 30742]. This rule proposed alternative ways to consolidate and simplify several consumer protection notices displayed by carriers on counter signs.

Comments: The Department received comments from certain members of the Air Transport Association of America, the travel industry, and the U.S. Office of Consumer Affairs.

Reason for withdrawal: Since publication of the NPRM, the increased use of information technology has resulted in many changes in the airline industry. Because of these substantial changes, this rulemaking is no longer necessary.

5. Rules of Practice in Board Proceedings; Fees and Charges for Special Services; and Statements of General Policy, NPRM published on October 5, 1984, under Docket No. 42497, RIN 2105-AA82, [49 FR 39337]. This rule proposed to revise requirements and procedures for applying for exemptions under section 416(b) of the Federal Aviation Act.

Comments: According to the document receipt ledger, no comments were received on this NPRM.

Reason for withdrawal: The Department included most of the proposed provisions from this NPRM in a rule that transferred CAB rules to DOT (50 FR 451, January 1, 1985). Therefore, this NPRM is no longer necessary and is withdrawn.

6. Tariffs; Baggage Liability Notices in International Air Transportation, NPRM published on December 18, 1984, under Docket No. 41690, RIN 2105-AA84, [49 FR 49111]. The NPRM was based on a petition for rulemaking to amend the regulations to clarify that carriers may have some liability for fragile or perishable articles.

Comments: The Department received comments from the International Air Transport Association and the Air Traffic Conference of America.

Reason for withdrawal: Since publication of the NPRM, the purpose of the proposal has been overtaken by changes to other Department rules, which makes this rulemaking unnecessary.

7. Price Advertising, NPRM published on July 26, 1989, under Docket No. 46410, RIN 2105-AB50, [54 FR 31052]. This rule proposed to amend the price advertising requirements to codify long-standing enforcement policy.

Comments: The Department received comments from the airline, travel, and advertising industries, State and local governments, and various consumer groups. A few of the comments urged the Department to adopt the proposals in the NPRM. Comments from State and local agencies expressed concern about the preemptive effects of the NPRM. Other comments stated that the proposals supported unfair and deceptive practices by the airlines.

Reason for withdrawal: Since issuance of the NPRM, the substance of the proposed rule has been covered in numerous DOT enforcement orders, which provide guidance to the industry. Additionally, significant changes in marketing and ticket distribution systems, particularly use of the Internet, have rendered the NPRM inappropriate.

8. Procedures for Transportation Workplace Drug Testing Programs, NPRM published on July 13, 1990, under Docket No. 45928, RIN 2105-AB71, [54 FR 28782]. This rule proposed to amend requirements specifying who may receive negative drug test results.

Reason for withdrawal: The issues raised in this NPRM pertaining to who receives negative drug test results and the comments received on it were addressed in a final rule entitled Procedures for Transportation Workplace Drug and Alcohol Testing Program, under Docket OST-99-6578, published December 19, 2000, 65 FR 79462.

9. Transportation for Individuals with Disabilities, NPRM published on June 20, 1994, under Docket No. 49602, RIN 2105-AC06, [59 FR 31818]. This rule proposed to amend the Department's rules implementing the Americans with Disabilities Act (ADA) by adopting revised accessibility guidelines issued by the Architectural and Transportation Barriers Compliance Board.

Reason for withdrawal: The Department has published a more recent notice of proposed rulemaking entitled Americans with Disabilities Act Accessibility Standards, under Docket No. OST-2000-7703, published August 8, 2000, 65 FR 48444, and intends to consider the issues raised in the 1994 NPRM and comments received on the proposal in this 2000 NPRM.

10. Amendments to Pre-Employment Alcohol Testing Requirements, NPRM published on May 9, 1996, under Docket No. OST-96-1333, RIN 2105-AC50, [61 FR 21149]. This rule proposed a change to pre-employment alcohol testing provisions to harmonize the regulations with the OMNIBUS Transportation Employee Testing Act of 1991 by making pre-employment testing voluntary for employers.

Reason for withdrawal: The pre-employment alcohol testing requirements and the comments received on the NPRM were addressed in a final rule entitled Procedures for Transportation Workplace Drug and Alcohol Testing Program, under Docket OST-99-6578, published December 19, 2000, 65 FR 79462.

While the Department is withdrawing the above-mentioned NPRMs and removing them from the semi-annual Regulatory Agenda, if it is determined that future action is needed, the Department will open new rulemakings.

Issued in Washington, DC on September 24, 2002.
Norman Y. Mineta,
Secretary of Transportation.

[FR Doc. 02-25189 Filed 10-2-02; 8:45 am]

BILLING CODE 4910-62-P